DEPARTMENT OF HEALTH AND HUMAN SERVICES

Food and Drug Administration

[Docket No. 98F-0290]

The Dow Chemical Co.; Withdrawal of Food Additive Petition

AGENCY: Food and Drug Administration, HHS.

ACTION: Notice.

SUMMARY: The Food and Drug Administration (FDA) is announcing the withdrawal, without prejudice to a future filing, of a food additive petition (FAP 8B4586) proposing that the food additive regulations be amended to provide for the safe use of certain olefin basic copolymers, derived from ethylene and alpha monomers with eight or fewer carbon atoms, as articles or as components of articles intended for use in contact with food.

FOR FURTHER INFORMATION CONTACT: Hortense S. Macon, Center for Food Safety and Applied Nutrition (HFS-206), Food and Drug Administration, 200 C St. SW., Washington, DC 20204, 202-418-3086.

SUPPLEMENTARY INFORMATION: In a notice published in the Federal Register of May 7, 1998 (63 FR 25212), FDA announced that a food additive petition (FAP 8B4586) had been filed by the Dow Chemical Co., 2030 Dow Center, Midland, MI 48674. The petition proposed to amend the food additive regulations in § 177.1520 Olefin polymers (21 CFR 177.1520) to provide for the safe use of certain olefin basic copolymers derived from ethylene and alpha monomers with eight or fewer carbon atoms, as articles or as components of articles intended for use in contact with food. The Dow Chemical Corporation has now withdrawn the petition without prejudice to a future filing (21 CFR 171.7).

Dated: September 8, 2000.
Alan M. Rulis,
Director, Office of Premarket Approval, Center for Food Safety and Applied Nutrition.

[FR Doc. 00-24959 Filed 9-28-00; 8:45 am]

BILLING CODE 4160-01-F